NATIONAL ARCHIVES AND RECORDS ADMINISTRATION

[NARA-2015-010]

Agency Information Collection Activities: Submission for OMB Review; Comment Request

AGENCY: National Archives and Records Administration (NARA).

ACTION: Notice of Information Collection Activity.

SUMMARY: NARA gives public notice that it has submitted to OMB for approval the information collections described in this notice. We invite you to comment on the proposed information collections pursuant to the Paperwork Reduction Act of 1995.

DATES: OMB must receive written comments at the address below on or before January 22, 2016.

ADDRESSES: Send comments to Mr. Nicholas A. Fraser, Desk Officer for NARA by mail to Office of Management and Budget; New Executive Office Building; Washington, DC 20503; by fax to 202-395-5167; or by email to Nicholas_A._Fraser@omb.eop.gov.

FOR FURTHER INFORMATION CONTACT: Direct requests for additional information or copies of the proposed information collection and supporting statement to Tamee Fechhelm by phone at 301-837-1694 or by fax at 301-713-7409.

SUPPLEMENTARY INFORMATION: Pursuant to the Paperwork Reduction Act of 1995 (Pub. L. 104-13), NARA invites the public and other Federal agencies to comment on proposed information collections. We published a notice of proposed collection for this information collection on June 9, 2015 (80 FR 32615 and 32616); we received no comments. NARA has therefore submitted the described information collection to OMB for approval.

In response to this notice, comments and suggestions should address one or more of the following points: (a) Whether the proposed information collection is necessary for NARA to properly perform its functions; (b) NARA's estimate of the burden of the proposed information collection and its accuracy; (c) ways NARA could enhance the quality, utility, and clarity of the information it collects; (d) ways NARA could minimize the burden on respondents of collecting the information, including through information technology; and (e) whether the collection affects small businesses. In this notice, NARA solicits comments concerning the following information collections:

1. Title: Forms Relating to Civilian Service Records.

OMB number: 3095-0037.

Agency form numbers: NA Forms 13022, 13064, and 13068.

Type of review: Regular.

Affected public: Former Federal civilian employees, their authorized representatives, state and local governments, and businesses.

Estimated number of respondents: 20,800.

Estimated time per response: 5 minutes.

Frequency of response: On occasion, when individuals desire to acquire information from Federal civilian employee personnel or medical records.

Estimated total annual burden hours: 1,733 hours.

Abstract: In accordance with rules issued by the Office of Personnel Management, the National Personnel Records Center (NPRC) of the National Archives and Records Administration (NARA) administers former Federal civilian employee Official Personnel Folders (OPF) and Employee Medical Folders (EMF). When former Federal civilian employees and other authorized individuals request information from or copies of documents in OPF or EMF, they must provide, in forms or in letters, certain information about the employee and the nature of the request. We use the NA Form 13022, Returned Request Form, to request additional information about a former Federal employee. We use the NA Form 13064, Reply to Request Involving Relief Agencies, to request additional information about a former relief agency employee. Members of the public use the NA Form 13068, Walk-In Request for OPM Records or Information, with proper authorization, to request a copy of a personnel or medical record.

2. Title: Volunteer Service Application.

OMB number: 3095-0060.

Agency form numbers: NA Forms 6045, 6045a, 6045b, and 6045c.

Type of review: Regular.

Affected public: Individuals or households.

Estimated number of respondents: 500.

Estimated time per response: 25 minutes.

Frequency of response: On occasion.

Estimated total annual burden hours: 208 hours.

Abstract: NARA uses volunteer resources to enhance its services to the public and to further its mission of providing ready access to essential evidence. Volunteers assist in outreach and public programs and provide technical and research support for administrative, archival, library, and curatorial staff. We use a standard way to recruit volunteers and assess the qualifications of potential volunteers. Applicants use NA Form 6045, Volunteer Service Application, to signal their interest in being a NARA volunteer and to identify their qualifications for this work. Once the applicant has been selected, the volunteer fills out the NA Form 6045a, Standards of Conduct for Volunteers, NA Form 6045b, Volunteer or Intern Emergency and Medical Consent, and NA Form 6045c, Volunteer or Intern Confidentiality Statement.

Dated: December 9, 2015.
Swarnali Haldar,
Executive for Information Services/CIO.

[FR Doc. 2015-32301 Filed 12-22-15; 8:45 am]

BILLING CODE 7515-01-P